DEPARTMENT OF ENERGY

Federal Energy Regulatory Commission

[Docket No. RP04-113-000]

Colorado Interstate Gas Company; Notice of Tariff Filing

December 24, 2003.

Take notice that on December 19, 2003, Colorado Interstate Gas Company (CIG) tendered for filing to be part of its FERC Gas Tariff, First Revised Volume No. 1, the following tariff sheets, to become effective January 19, 2004:

Fourth Revised Sheet No. 383A

Second Revised Sheet No. 407

Second Revised Sheet No. 413

Second Revised Sheet No. 420

Fifth Revised Sheet No. 427

CIG states that the tariff sheets revise its Form of Service Agreements applicable to service under CIG's firm rate schedules to include additional contracting flexibility in the manner in which amended service agreements relate to prior agreements.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E3-00682 Filed 12-31-03; 8:45 am]

BILLING CODE 6717-01-P